DEPARTMENT OF HEALTH AND HUMAN SERVICES

National Institutes of Health

National Institute of Biomedical Imaging and Bioengineering; Notice of Meeting

Notice is hereby given of a change in the meeting of the National Advisory Council for Biomedical Imaging and Bioengineering, May 16, 2008, 9 a.m. to 5 p.m., Bethesda Marriott Suites, 6711 Democracy Boulevard, Bethesda, Maryland 20817, which was published in the Federal Register on April 9, 2008, 73 FR 19230.

The meeting start time has been changed from 9 a.m. to 8:30 a.m. The meeting location remains the same.

Dated: April 17, 2008.
Jennifer Spaeth,
Director, Office of Federal Advisory Committee Policy.

[FR Doc. E8-9004 Filed 4-24-08; 8:45 am]

BILLING CODE 4140-01-M